DEPARTMENT OF COMMERCE

Bureau of Industry and Security

Emerging Technology and Research Advisory Committee (ETRAC); Notice of Recruitment of Private-Sector Members

SUMMARY: The Bureau of Industry and Security (BIS) is announcing a recruitment for new candidates to serve on the Emerging Technology and Research Advisory Committee (ETRAC) to advise the Department and other agency officials on: (a) The identification of emerging technologies and research and development activities that may be of interest from a BIS perspective; (b) the potential impact of Export Administration Regulations (EAR) on research activities; (c) technical and policy issues relating to controls under the EAR as a result of the Export Control Reform Initiative; (d) revisions of the Control List, including proposed revisions of multilateral controls in which the United States participates; (e) the issuance of regulations and (f) any other matters relating to actions designed to carry out the policy set forth in Section 3(2)(A) of the Export Administration Act.

The ETRAC will consist of experts drawn equally from academia, federal laboratories, and industry to ensure a comprehensive discussion of emerging technologies and research and development activities and their implications with regard to national and economic security. ETRAC members are appointed by the Secretary of Commerce and serve terms of not more than four consecutive years. The membership reflects the Department's commitment to attaining balance and diversity. ETRAC members must obtain secret-level clearance prior to appointment. These clearances are necessary so that members may be permitted access to the classified information needed to formulate recommendations to the Department of Commerce. The ETRAC will also reach out to other government and non-government experts to ensure a broad and thorough review of the issues. The ETRAC meets approximately four times per year. Members of the Committee will not be compensated for their services.

To respond to this recruitment notice, please send a copy of your resume to Ms. Yvette Springer at Yvette.springer@bis.doc.gov.

Deadline: This Notice of Recruitment will be open for one year from its date of publication in the Federal Register.

Dated: July 3, 2014.
Yvette Springer,
Committee Liaison Officer.

[FR Doc. 2014-16115 Filed 7-9-14; 8:45 am]

BILLING CODE 3510-JT-P